DEPARTMENT OF DEFENSE

Department of the Army, Corps of Engineers

Intent To Prepare a Draft Environmental Impact Statement (DEIS) for the Illinois River Ecosystem Restoration Feasibility Report, Illinois

AGENCY: U.S. Army Corps of Engineers, DoD.

ACTION: Notice of intent.

SUMMARY: A DEIS will be prepared to address the Illinois River Ecosystem Restoration Feasibility Report, a systemic evaluation of identify problems and opportunities related to sedimentation and habitat degradation in the Illinois River Basin and to identify potential restoration projects and a prioritization framework.

FOR FURTHER INFORMATION CONTACT: Questions about the proposed action and DEIS can be answered by calling Mr. Ken Barr, 309/794-5256, or by writing to: Commander, U.S. Army Engineer District, Rock Island, ATTN: CEMVR-PM-A (Ken Barr), Clock Tower Building, P.O. Box 2004, Rock Island, Illinois 61204-2004.

SUPPLEMENTARY INFORMATION: The Illinois River Ecosystem Restoration Feasibility Report is being conducted under the Corps of Engineers General Investigations Program in partnership with the Illinois Department of Natural Resources. The study was authorized by Section 216 of the Flood Control Act of 1970. Supplemental authorization is provided by Section 519 of the Water Resources Development of 2000, which authorizes development of a comprehensive plan for the purposes of restoring, preserving, and protecting the Illinois River Basin. The Illinois Waterway System is being reviewed for changed physical and economic conditions that may warrant structural or operation modifications to improve the quality of the environment. The study area includes the entire Illinois River Watershed.

1. During the reconnaissance study, the primary problems identified were sedimentation and degradation of the environmental conditions of the Illinois Waterway System. This study will identify ecosystem restoration efforts which could address these problems.

2. Ecosystem restoration alternatives to address sedimentation and habitat degradation that have been identified to date include the following: stabilization of tributary watersheds, modification of Illinois River side channel and backwater habitats, water level management to reduce rapid fluctuations and naturalized flows, and restoration and protection of floodplan habitats. Combinations of these, along with the “No Action” alternative, are being evaluated to form an array of alternatives which will eventually result in a recommended plan.

3. The DEIS will address impacts associated with the general types of restoration alternatives proposed. Supplemental documentation will be prepared, as appropriate, to address site-specific impacts of restoration alternatives.

4. Previous scoping information developed as part of the Upper Mississippi River—Illinois Waterway Environmental Management Program (EMP), the EMP Habitat Needs Assessment, and the State of Illinois Integrated Management Plan for the Illinois River Watershed, Upper Mississippi and Illinois Waterway Cumulative Effects Study were considered for initial study scoping efforts. A coordinating body with representatives from Federal, State, and local government and non-governmental organizations will be established to promote dialogue and coordination. Study newsletters will be sent to a mailing list of approximately 2,000 individuals and organizations approximately 8 times during the 4-year study. A series of public meetings will be held three times during the feasibility study. Each of the three series of meetings will be held at six or more sites within the Illinois River Basin. The first series of meetings were held in November and December 2000 and February 2001. The second and third series of meetings will occur at the study mid-point and the study's conclusion, respectively. Interested Federal, State, and local agencies, Indian tribes, and other interested private organizations and citizens are invited to participate.

5. Significant issues to be analyzed in depth in the DEIS are as follows:

a. Water/Tributary Restoration—evaluate options to address tributary degradation and instability looking at stream and wetlands restoration, water retention, conservation easements, and riparian buffers;

b. Side Channel and Backwater Restoration—consider opportunities to restore aquatic habitats in these areas, including off-channel deep-water habitat, backwater lakes, side channels, islands, etc;

c. Water Level Management—evaluate options to reduce rapid fluctuations and naturalize flows; and,

d. Floodplan Restoration and Protection—floodplain use, potential restoration of floodplain function, and value and potential for acquisition of conservation easements.

6. Any subsequent environment review will be conducted according to the requirements of the National Environmental Policy Act, National Historic Preservation Act, Endangered Species Act, Clean Water Act, Farmland Protection Act, Fish and Wildlife Coordination Act, Executive Order 11988—Floodplain Management, Executive Order 11990—Protection of Wetlands, and other environmental regulations.

7. Scoping meetings were held on November 29, 2000, and December 4, 5, and 6, 2000. Additional scoping meetings are scheduled for February 20, 2001, in Grafton, Illinois; February 26, 2001, in Utica, Illinois; and February 27, 2001, in Macomb, Illinois. Notification of these meetings will be made available to local media.

8. The DEIS is anticipated to be provided to the public in fall 2003. The EIS will be supplemented, as appropriate.

Dated: January 26, 2001.
William J. Bayles,
Colonel, EN, Commanding.

[FR Doc. 01-3846 Filed 2-15-01; 8:45 am]

BILLING CODE 3710-HU-M